DEPARTMENT OF ENERGY

Federal Energy Regulatory Commission

[IC06-716A-001, FERC-716A]

Commission Information Collection Activities, Proposed Collection; Comment Request; Extension

April 5, 2006.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of January 19, 2006 (71 FR 3065-3066) and has made this notation in its submission to OMB.

DATES: Comments on the collection of information are due by May 18, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings, and original and 14 copies of such comments should be submitted to the Secretary of the Commission, Federal Energy Regulatory Commission, 888 First Street, NE., Washington, DC 20426 and should refer to Docket No. IC06-716A-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's Home page using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-716A “Application for Transmission Services Under Section 211 of the Federal Power Act.”

2. Sponsor: Federal Energy Regulatory Commission.

3. Control No.: 1902-0168.

The Commission is now requesting that OMB approve and extend the expiration date for an additional three years with no changes to the existing collection. The information filed with the Commission is mandatory.

4. Necessity of the Collection of Information: Submission of the information is necessary for the Commission to carry out its responsibilities in implementing the Statutory provisions of sections 211 of the Federal Power Act (FPA), 16 U.S.C. (824) as amended by the Energy Policy Act 1992 (Pub. L. 102-486) 106 Stat. 2776. Under section 211, the Commission may order transmission services if it finds that such action would be in the public interest and would not unreasonably impair the continued reliability of systems affected by the order. Section 211 allows an electric utility, Federal power marketing agency or any other person generating electric energy for sale or resale to apply to the Federal Energy Regulatory Commission for an order under subsection (a) requiring a transmitting utility to provide transmission service and notify the affected parties.

5. Respondent Description: The respondent universe currently comprises 8 companies (on average) subject to the Commission's jurisdiction.

6. Estimated Burden: 20 total hours, 8 respondents (average), 1 response per respondent, and 2.5 hours per response (average).

7. Estimated Cost Burden to respondents: 20 hours/2080 hours per years × $112,767 per year = $1,084. The cost per respondent is equal to $136.

Statutory Authority: Section 211 of the Federal Power Act (FPA), 16 U.S.C. (824) as amended by the Energy Policy Act 1992 (Pub. L. 102-486) 106 Stat. 2776.

Magalie R. Salas,
Secretary.

[FR Doc. E6-5303 Filed 4-10-06; 8:45 am]

BILLING CODE 6717-01-P